DEPARTMENT OF HOMELAND SECURITY

Office of the Secretary

Privacy Act of 1974; System of Records

AGENCY: Privacy Office, DHS.

ACTION: Notice of removal of ten Privacy Act system of records notices.

SUMMARY: In accordance with the Privacy Act of 1974, the Department of Homeland Security is giving notice that it will remove ten systems of records notices from its inventory of record systems because the Federal Emergency Management Agency no longer requires these systems. These ten obsolete systems are: FEMA/PER-2 Equal Employment Opportunity Complaints of Discrimination Files, FEMA/PER-3 Payroll and Leave Accounting, FEMA/FIA-1 Federal Crime Insurance Program, FEMA/REG-1 State and Local Civil Preparedness Instruction Program, FEMA/SLPS-1 Application for Enrollment in Architectural Engineering Professional Development Program, FEMA/SLPS-2 Military Reserve Program, FEMA/SLPS-3 Radioactive Material Inventory, FEMA/SLPS-4 Maintenance and Calibration, FEMA/SLPS-5 Radiation Exposure and Radioactive materials; Radiation Committee Records, and FEMA/CGC-1 Cerro Grande Fire Assistance Claim Files.

DATES: Effective Date: December 19, 2008.

FOR FURTHER INFORMATION CONTACT: Hugo Teufel III, Chief Privacy Officer, Department of Homeland Security, Washington, DC 20528, by telephone (703) 235-0780 or facsimile 1-866-466-5370.

SUPPLEMENTARY INFORMATION: Pursuant to the provisions of the Privacy Act of 1974, 5 U.S.C. 552a, and as part of its ongoing integration and management efforts, the Department of Homeland Security (DHS) is removing ten Federal Emergency Management Agency (FEMA) system of records notices from its inventory of record systems.

DHS inherited these records systems upon its creation in January of 2003. Upon review of its inventory of systems of records, DHS has determined it no longer needs these ten systems and is retiring the following:

DHS is retiring FEMA/PER-2 (55 FR 37182 September 7, 1990), Equal Employment Opportunity Complaints of Discrimination Files. This system was originally established in order to maintain records on individuals who file a discrimination complaint against FEMA.

DHS is retiring FEMA/PER-3 (55 FR 37182 September 7, 1990), Payroll and Leave Accounting. This system was originally established in order to maintain records concerning employee payroll and leave accounting.

DHS is retiring FEMA/FIA-1 (67 FR 3193 January 23, 2002), Federal Crime Insurance Program. This system was originally established in order to maintain records on the Federal Crime Insurance Program.

DHS is retiring FEMA/REG-1 (55 FR 37182 September 7, 1990), State and Local Civil Preparedness Instruction Program. This system was originally established in order to maintain records on individuals involved in state and local civil preparedness instruction programs.

DHS is retiring FEMA/SLPS-1 (55 FR 37182 September 7, 1990), Application for Enrollment in Architectural Engineering Professional Development Program. This system was originally established in order to maintain records on individuals who apply for FEMA professional development courses.

DHS is retiring FEMA/SLPS-2 (55 FR 37182 September 7, 1990), Military Reserve Program. This system was originally established in order to maintain records on military reservists who have a mobilization designation to FEMA.

DHS is retiring FEMA/SLPS-3 (55 FR 37182 September 7, 1990), Radioactive Material Inventory. This system was originally established in order to maintain records on custodians of FEMA radioactive material.

DHS is retiring FEMA/SLPS-4 (55 FR 37182 September 7, 1990), Maintenance and Calibration. This system was originally established in order to maintain records on all state radiological systems officers and maintenance personnel.

DHS is retiring FEMA/SLPS-5 (55 FR 37182 September 7, 1990), Radiation Exposure and Radioactive materials; Radiation Committee Records. This system was originally established in order to maintain records on all authorized users of sources of ionizing radiation, activity radiation safety officers, ionizing radiation, dose records officers, custodians of FEMA sources of ionizing radiation, committee members and alternates.

DHS is retiring FEMA/CGC-1 (65 FR 52116 August 28, 2000), Cerro Grande Fire Assistance Claim Files. This system was originally established to expeditiously consider and settle claims for injuries suffered as a result of the Cerro Grande Fire. Eliminating these systems of records notices will have no adverse impacts on individuals, but will promote the overall streamlining and management of DHS Privacy Act record systems.

Dated: November 12, 2008.
John W. Kropf,
Acting Chief Privacy Officer, Department of Homeland Security.

[FR Doc. E8-27363 Filed 11-18-08; 8:45 am]

BILLING CODE 4410-10-P